DEPARTMENT OF DEFENSE

Department of the Air Force

Notice of Intent To Prepare an Environmental Impact Statement for the Transfer of Cannon Air Force Base and Melrose Air Force Range From Air Combat Command to Air Force Special Operations Command

AGENCY: Department of the Air Force, Air Force Special Operations Command, DoD.

ACTION: Notice of intent.

SUMMARY: In accordance with the National Environmental Policy Act (NEPA) of 1969 (42 U.S.C. 4321-4347), the Council on Environmental Quality (CEQ) NEPA Regulations (40 Code of Federal Regulations [CFR] parts 1500-1508), and the United States Air Force's (USAF) Environmental Impact Analysis Process (EIAP, 32 CFR part 989), the Air Force is preparing an EIS to consider the proposed action of transferring certain Air Force Special Operations equipment and personnel to Cannon AFB. The Air Force proposes to transfer aircraft and personnel from Hurlburt Field, Florida, or other existing operational locations to Cannon AFB, New Mexico. Potential AFSOC assets to beddown include aircraft, weapons systems, equipment, and personnel. Growth is planned through Fiscal Year 2013 at Cannon AFB, and AFSOC proposes to begin utilizing Melrose Air Force Range (AFR), existing training airspace, and existing Military Training Routes from Cannon AFB. This NOI describes the Air Force's scoping process and identifies the Air Force's point of contact. As part of the proposal, the Air Force will analyze potential environmental impacts associated with the proposed aircraft, equipment, and personnel transfer, beddown, training, and operations.

Background: On June 19, 2006, in accordance with the 2005 Defense Base Closure and Realignment Commission Report, the SECDEF designated the AFSOC's establishment of the 16th Special Operations Wing at Cannon AFB, beginning October 2007, as the new mission for that base. The EIS will analyze the impacts of that proposed action on the environment. AFSOC is considering what aircraft and other equipment to base at Cannon AFB, how best to utilize existing facilities, and what facilities will need to be modified or built. The proposed action will consider moving approximately 90 aircraft and approximately 3,500 personnel to the base. It is possible that additional facilities may need to be constructed at Melrose AFR. The impacts from the proposed actions will be considered in the EIS. In addition, the EIS will also address alternatives to the proposed action, including a “no action” alternative. Because the proposed action is to be taken as the result of the BRAC directive to the SECDEF to designate a new mission for Cannon AFB, the basing/installation alternative will be limited to the confines of Cannon AFB and Melrose AFR; however, the airspace alternatives will include Melrose AFR, surrounding Military Training Routes and Military Operations Areas (MOAs) including the Mt Dora MOA, Pecos MOA Complex and Bronco MOA.

DATES: The Air Force will hold a series of scoping meetings to solicit public input concerning the scope of the proposed action and alternatives, as well as to help identify other concerns and issues to be addressed in the environmental analysis. The scheduled dates, times, locations, and addresses for the scoping meetings are as follows:

1. September 18, 2006—Monday, 6-8 p.m., at Clovis and Portales, NM, Clovis Community College, 417 Schepps Blvd.

2. September 19, 2006—Tuesday, 6-8 p.m., at Clayton, NM, Clayton High School, 323 South Fifth Street.

3. September 20, 2006—Wednesday, 6-8 p.m., at Fort Sumner, NM, Fort Sumner Community House, 137 East Baker Avenue.

No additional meetings are scheduled at this time. In addition to comments received at the scoping meetings, any written comments on the scope of the EIS received at the address below by October 5, 2006, will be considered in the preparation of this EIS.

FOR FURTHER INFORMATION CONTACT: Mr. Carl T. Hoffman, HQ AFSOC/A7CV, 427 Cody Ave., Suite 225, Hurlburt Field, FL 32544-5434, (850) 884-5984.

Bao-Anh Trinh,
DAF, Air Force Federal Register Liaison Officer.

[FR Doc. E6-14031 Filed 8-23-06; 8:45 am]

BILLING CODE 5001-05-P